COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add service(s) to the Procurement List that will be furnished by nonprofit agencies employing persons who are blind or have other severe disabilities, and deletes product(s) and service(s) previously furnished by such agencies.

DATES: Comments must be received on or before: September 29, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

In accordance with 41 CFR 51-5.3(b), the Committee intends to add this services requirement to the Procurement List as a mandatory purchase only for contracting activity and location listed below with the proposed qualified nonprofit agency as the authorized source of supply. Prior to adding the service to the Procurement List, the Committee will consider other pertinent information, including information from Government personnel and relevant comments from interested parties regarding the Committee's intent to geographically limit this services requirement.

The following service(s) are proposed for addition to the Procurement List for production by the nonprofit agencies listed:

Service(s)

Service Type: Landscaping Service

Mandatory for: Missile Defense Agency, Missile Defense Agency Headquarters, Fort Belvoir, VA

Authorized Source of Supply: Melwood Horticultural Training Center, Inc., Upper Marlboro, MD

Contracting Activity: MISSILE DEFENSE AGENCY (MDA)

Deletions

The following product(s) and service(s) are proposed for deletion from the Procurement List:

Product(s)

NSN(s)—Product Name(s):

4240-01-534-3386—Hearing Protection, Over-the-Head Earmuff, NRR 30dB, PR

6515-01-576-8796—Skull Screws Ear Plug, Yellow, Single Ended, Universal Size

6515-00-NSH-0012—Skull Screws Ear Plug, Single Ended, Universal Size

Authorized Source of Supply: Access: Supports for Living Inc., Middletown, NY

Contracting Activity: DLA TROOP SUPPORT, PHILADELPHIA, PA

NSN(s)—Product Name(s):

7510-01-660-4955—Toner Cartridge, LaserJet, Remanufactured, HP 645A Series, Black, Page Yield 13000

7510-01-660-4957—Toner Cartridge, LaserJet, Remanufactured, HP 645A Series, Cyan, Page Yield 12000

7510-01-660-4960—Toner Cartridge, LaserJet, Remanufactured, HP 645A Series, Yellow, Page Yield 12000

7510-01-660-4963—Toner Cartridge, LaserJet, Remanufactured, HP 645A Series. Magenta, Page Yield 12000

Designated Source of Supply: Alabama Industries for the Blind, Talladega, AL

Contracting Activity: GSA/FAS ADMIN SVCS ACQUISITION BR(2, NEW YORK, NY

Service(s)

Service Type: Mail and Messenger Service

Mandatory for: US Army Corps of Engineers, 4820 University Square, Huntsville, AL

Authorized Source of Supply: Huntsville Rehabilitation Foundation, Inc., Huntsville, AL

Contracting Activity: DEPT OF THE ARMY, W2V6 USA ENG SPT CTR HUNTSVIL

Michael R. Jurkowski,
Director, Business Operations.

[FR Doc. 2024-19522 Filed 8-29-24; 8:45 am]

BILLING CODE 6353-01-P